DEPARTMENT OF JUSTICE

Office of Justice Programs

[OJP (OJP) Docket No. 1582]

Hearing of the Attorney General's National Task Force on Children Exposed to Violence

AGENCY: Office of Justice Programs (OJP), Justice.

ACTION: Notice of hearing.

SUMMARY: This is an announcement of the third hearing of the Attorney General's National Task Force on Children Exposed to Violence (the “task force”). The task force is chartered to provide OJP, a component of the Department of Justice, with valuable advice in the areas of children exposed to violence for the purpose of addressing the epidemic levels of exposure to violence faced by our nation's children. Based on the testimony at four public hearings; comprehensive research; and extensive input from experts, advocates, and impacted families and communities nationwide, the task force will issue a final report to the Attorney General presenting its findings and comprehensive policy recommendations in the fall of 2012.

DATES: The hearing will take place on Monday, March 19, 2012, from 5 p.m. to 7 p.m.; Tuesday, March 20, 2012, from 8:30 a.m. to 5:30 p.m.; and on Wednesday, March 21, 2012, from 8:30 a.m. to 3 p.m.

ADDRESSES: The hearing will take place in the multi-purpose room at the University of Miami Newman Alumni Center, 6200 San Amaro Drive, Coral Gables, Florida, 33146.

FOR FURTHER INFORMATION CONTACT: Will Bronson, Designated Federal Officer (DFO), Deputy Associate Administrator, Child Protection Division, Office of Juvenile Justice & Delinquency Prevention, Office of Justice Programs, 810 7th Street NW., Washington, DC 20531. Phone: (202) 305-2427 [note: this is not a toll-free number]; email: willie.bronson@usdoj.gov.

SUPPLEMENTARY INFORMATION: This hearing is being convened to brief the task force members about the issue of children's exposure to violence. The final agenda is subject to adjustment, but it is anticipated that on March 19, there will be two hours of public testimony. On March 20, there will be a morning and afternoon session, with a break for lunch. The morning session will likely include welcoming remarks, introductions, and panel presentations from invited guests on the impact of children's exposure to violence. The afternoon session will likely include a working meeting of the task force. On the morning of March 21, there will be a facilitated roundtable discussion with task force members and invited guests, followed by a break for lunch. The afternoon session will likely be devoted to a working meeting of task force members.

This meeting is open to the public. Members of the public who wish to attend this meeting must provide photo identification upon entering the hearing facility. Access to the meeting will not be allowed without identification. Public testimony must be provided in person and will be limited to five (5) minutes per witness. Those wishing to provide public testimony during the hearing should register with Will Bronson at defendingchildhoodtaskforce@nccdcrc.org at least seven (7) days in advance of the meeting. Registrations will be accepted on a space-available basis. Testimony will not be allowed without prior registration. Please bring photo identification and allow extra time prior to the meeting for your arrival.

Anyone requiring special accommodations should notify Mr. Bronson at least seven (7) days in advance of the meeting.

Written Comments: The Department strongly encourages interested parties and organizations to submit written comments and testimony for review by the task force by April 24, 2012, to Will Bronson, Designated Federal Official for the task force, at defendingchildhoodtaskforce@nccdcrc.org. The task force expects that any public statements presented by individuals/organizations during the public comment portion of the hearing will not repeat previously submitted statements.

Catherine Pierce,
Associate Administrator, Office of Justice Programs, Office of Juvenile Justice and Delinquency Prevention, Child Protection Division.

[FR Doc. 2012-5169 Filed 3-1-12; 8:45 am]

BILLING CODE 4410-18-P